DEPARTMENT OF TRANSPORTATION

Federal Railroad Administration

[Docket Number FRA-2019-0003]

Petition for Waiver of Compliance

Under part 211 of Title 49 Code of Federal Regulations (CFR), this document provides the public notice that on November 26, 2018, Canadian National Railway Company (CN) petitioned the Federal Railroad Administration (FRA) for a waiver of compliance from certain provisions of the Federal railroad safety regulations contained at 49 CFR 232.305, Single car air brake tests. Specifically, CN requests relief from § 232.305(b)(2), regarding the requirement to conduct a single car air brake test (SCT) on a car when it is placed on a repair track for any reason, and the car has not had a SCT in the previous 12 months.

CN seeks this relief for its operation in Fulton, KY, a purpose-built facility that would utilize a drop table to safely and efficiently replace defective wheelsets while keeping the train intact. CN's proposed in-train wheelset replacement program would identify and replace wheelsets with minor defects falling between Association of American Railroads standards and FRA requirements, which will assist in reducing the number of wheel, bearing, impact, and broken rail-caused derailments, as well as associated injuries.

CN states that rigid enforcement of 49 CFR 232.305(b)(2) threatens the viability of CN's in-train wheelset replacement initiative because CN cannot feasibly perform SCTs on all cars receiving wheelset replacements or all cars that are placed on that track which have not received a SCT in the previous 12 months. CN provides an example of how rigid enforcement would impact this operation: a train made up of 100 cars that have received a SCT 24 months ago would be required to have all 100 cars receive a SCT simply because they are on a track where wheelset change-outs are conducted. The wheelset can be changed out in 10 minutes; however, the SCT would be a minimum of 45 minutes per car.

CN notes that FRA has recognized SCTs associated with in-train wheelset replacements are not always critical to ensuring railcar and braking system safety, as:

—FRA regulations do not require SCTs for cars undergoing wheelset replacements less than 12 months following their previous SCT;

—FRA requires a SCT only once every five or eight years for rail cars that do not undergo repairs;

—FRA does not require SCTs following wheelset changes on cars at intermodal loading ramps; and

—FRA has granted this relief to other railroads (see Docket Number FRA-2007-28454).

A copy of the petition, as well as any written communications concerning the petition, is available for review online at www.regulations.gov and in person at the U.S. Department of Transportation's (DOT) Docket Operations Facility, 1200 New Jersey Avenue SE, W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested parties desire an opportunity for oral comment and a public hearing, they should notify FRA, in writing, before the end of the comment period and specify the basis for their request.

All communications concerning these proceedings should identify the appropriate docket number and may be submitted by any of the following methods:

• Website: http://www.regulations.gov. Follow the online instructions for submitting comments.

• Fax: 202-493-2251.

• Mail: Docket Operations Facility, U.S. Department of Transportation, 1200 New Jersey Avenue SE, W12-140, Washington, DC 20590.

• Hand Delivery: 1200 New Jersey Avenue SE, Room W12-140, Washington, DC 20590, between 9 a.m. and 5 p.m., Monday through Friday, except Federal Holidays.

Communications received by April 5, 2019 will be considered by FRA before final action is taken. Comments received after that date will be considered if practicable.

Anyone can search the electronic form of any written communications and comments received into any of our dockets by the name of the individual submitting the comment (or signing the document, if submitted on behalf of an association, business, labor union, etc.). Under 5 U.S.C. 553(c), DOT solicits comments from the public to better inform its processes. DOT posts these comments, without edit, including any personal information the commenter provides, to www.regulations.gov, as described in the system of records notice (DOT/ALL-14 FDMS), which can be reviewed at https://www.transportation.gov/privacy. See also https://www.regulations.gov/privacyNotice for the privacy notice of regulations.gov.

Issued in Washington, DC.
Robert C. Lauby,
Associate Administrator for Railroad Safety, Chief Safety Officer.

[FR Doc. 2019-02629 Filed 2-15-19; 8:45 am]

BILLING CODE 4910-06-P